DEPARTMENT OF JUSTICE

Notice of Lodging of Stipulation of Settlement and Judgment Pursuant to the Clean Water Act

On August 31, 2011, a proposed Stipulation of Settlement and Judgment (the “Stipulation”) in United States v. The Links at Columbia, LP and Lindsey Construction Company, Inc., No. 2:11-cv-04232-NKL, was lodged with the United States District Court for the Western District of Missouri. Both defendants signed the proposed Stipulation.

In this action the United States sought a civil penalty for violations of the Clean Water Act, 33 U.S.C. 1251, et seq., in the course of the defendants' construction of The Links at Columbia, a large residential development in Columbia, Missouri. The Complaint alleged that the defendants violated conditions of National Pollutant Discharge Elimination System (“NPDES”) storm water permits issued by the State of Missouri. Construction is complete.

By signing the proposed Stipulation, the defendants certify that they have ceased the violations alleged in the Complaint. In addition, the proposed Stipulation will require the defendants will pay a $430,000 civil penalty for the violations.

For thirty (30) days after the date of this publication, the Department of Justice will receive comments relating to the proposed Stipulation. Comments should be addressed to the Assistant Attorney General, Environment and Natural Resources Division, and either e-mailed to pubcomment-ees.enrd@usdoj.gov or mailed to P.O. Box 7611, U.S. Department of Justice, Washington, DC 20044-7611. The comments should refer to United States v. The Links at Columbia and Lindsey Construction Company, D.J. Ref. No. 90-5-1-1-09277.

During the public comment period, the proposed Stipulation may be examined at the Office of the United States Attorney, Western District of Missouri, Charles Evans Whittaker Courthouse, 400 East Ninth Street, Room 5510, Kansas City, Missouri 64106, or on the Department of Justice Web site, http://www.usdoj.gov/enrd/Consent_Decrees.html. A copy may be obtained by mailing a request to the Consent Decree Library, P.O. Box 7611, U.S. Department of Justice, Washington, DC 20044-7611. When requesting a copy by mail, please enclose a check payable to the U.S. Treasury in the amount of $26.50 (25 cents per page reproduction cost). A copy may also be obtained by e-mailing or faxing a request to Tonia Fleetwood, tonia.fleetwood@usdoj.gov, fax number (202) 514-0097, phone confirmation number (202) 514-1547, and mailing a check for the reproduction cost to the Consent Decree Library.

Robert E. Maher, Jr.,
Assistant Section Chief, Environmental Enforcement Section, Environment and Natural Resources Division.

[FR Doc. 2011-23946 Filed 9-16-11; 8:45 am]

BILLING CODE 4410-15-P